DEPARTMENT OF TRANSPORTATION

Federal Railroad Administration

Petition for Waiver of Compliance

In accordance with Title 49 Code of Federal Regulations (CFR) Part 211, notice is hereby given that the Federal Railroad Administration (FRA) received a request for a waiver of compliance with certain requirements of its safety standards. The individual petition is described below, including the party seeking relief, the regulatory provisions involved, the nature of the relief being requested, and the petitioner's arguments in favor of relief.

New Jersey Transit Corporation

[Supplement and Modification To Waiver Petition Docket Number FRA-1999-6135, with New Docket Number FRA-2007-0030]

As a supplement and modification to New Jersey Transit Corporation's (NJ Transit) petition for approval of shared use and waiver of certain FRA regulations (the original Shared Use Waiver was granted by the FRA Railroad Safety Board on December 3, 1999, a 5-year extension and decision regarding relief from the FRA Horn Rule was granted by the Safety Board on November 9, 2006), NJ Transit is seeking permission from FRA to modify the temporal separation operating plan to reflect new Burlington and Camden Subdivisions. Also, NJ Transit is asking FRA to modify the terms and conditions of FRA's November 9, 2006, decision letter seeking a permanent waiver of compliance from requirements of the FRA Horn Rule for continued safe operation of its Southern New Jersey Light Rail Transit (SNJLRT) River Line at seven specific highway-rail grade crossings in the Palmyra and Riverton, NJ, communities. NJ Transit submits that this request is consistent with the waiver process for shared use. (See Statement of Agency Policy Concerning Jurisdiction Over the Safety of Railroad Passenger Operations and Waivers Related to Shared Use of the Tracks of the General Railroad System by Light Rail and Conventional Equipment, 65 FR 42529 (July 10, 2000); also see Joint Statement of Agency Policy Concerning Shared Use of the Tracks of the General Railroad System by Conventional Railroads and Light Rail Transit Systems, 65 FR 42526 (July 10, 2000).)

On April 27, 2005, FRA issued the Final Rule on Use of Locomotive Horns at Highway-Rail Grade Crossings, 70 FR 21844 (2005), with an effective date of June 24, 2005. NJ Transit claimed that although its audible warning operating practices on the River Line are generally in compliance with the rules contained in 49 CFR Parts 222 and 229, Use of Locomotive Horns at Highway Rail Grade Crossings; Final Rule, it needed relief from the requirements of the rule because of the unique operating characteristics of the SNJLRT River Line-particularly the close proximity of highway-rail grade crossings in the communities of Riverton and Palmyra, NJ. As noted and explained in the FRA decision letter dated November 9, 2006, FRA denied NJ Transit relief from the Horn Rule requirements, except at certain locations outlined in the decision letter, including four near-side station stops in the Riverton-Palmyra single track corridor at Cinnaminson Avenue, Morgan Avenue, Thomas Avenue, and Main Street.

With this petition submitted in lieu of instituting quiet zones, NJ Transit again is seeking relief from the requirements of the FRA Horn Rule (use of 83 dB bell in lieu of 86dB horn) at seven of nine actively warned highway-rail grade crossings along this 1.4-mile Riverton-Palmyra single track corridor. The driving force behind this request is that the SNJLRT River Line operates 91 weekday trips through this corridor, generating over 800 audible warnings between 6 a.m. and 10 p.m., causing quality of life issues and noise complaints from nearby residents.

Also with this petition, NJ Transit is seeking permission from FRA to modify the temporal separation operating plan to reflect new Burlington and Camden Subdivisions. The creation of these subdivisions will allow SNJLRT light rail vehicles in a particular subdivision to operate concurrently when Conrail freight trains are either late in clearing tracks in the other subdivision or they report clear for the remainder of the freight window. The subdivisions will be delineated where switches can be reversed and blocked to prevent movements outside each respective subdivision.

All communications concerning these proceedings should identify the appropriate docket number (e.g., Waiver Petition Docket Number FRA-2007-0030) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-19478).

Issued in Washington, DC on January 28, 2008.
Grady C. Cothen, Jr.,
Deputy Associate Administrator for Safety Standards and Program Development.

[FR Doc. E8-1863 Filed 1-31-08; 8:45 am]

BILLING CODE 4910-06-P